DEPARTMENT OF VETERANS AFFAIRS

38 CFR Part 17

RIN 2900-AN23

Expansion of Enrollment in the VA Health Care System; Correction

AGENCY: Department of Veterans Affairs.

ACTION: Correcting amendment.

SUMMARY: The Department of Veterans Affairs (VA) published a final rule in the Federal Register on May 15, 2009 (74 FR 22832), amending its medical regulations regarding enrollment in the VA health care system. In particular, it established additional sub-priorities within enrollment priority category 8 and provided that beginning on the effective date of the rule, VA will begin enrolling priority category 8 veterans whose income exceeds the current means test and geographic means test income thresholds by 10 percent or less. A provision in the regulatory text contained a reference to the effective date of the regulation instead of providing the actual effective date. This document clarifies the beginning date VA will enroll the priority categories of veterans set forth in the regulation which is June 15, 2009.

DATES: Effective Date: September 21, 2009.

FOR FURTHER INFORMATION CONTACT: Roscoe Butler, Acting Director, Business Policy, Chief Business Office (163), Veterans Health Administration, Department of Veterans Affairs, 810 Vermont Avenue, NW., Washington, DC 20420; (202) 461-1586. (This is not a toll-free number.)

SUPPLEMENTARY INFORMATION: On May 15, 2009, VA published a final rule in the Federal Register (74 FR 22832) amending its medial regulations regarding enrollment in the VA health care system set forth at 38 CFR 17.36. The final rule amended regulations implementing Public Law 104-262, the Veterans' Health Care Eligibility Reform Act of 1996, which required VA to establish a national enrollment system to manage the delivery of inpatient hospital care and outpatient medical care, within available appropriated resources. It directed that the enrollment system be managed in such a way as “to ensure that the provision of care to enrollees is timely and acceptable in quality,” and authorized such sub-prioritization of the statutory enrollment categories “as the Secretary determined necessary.” The law also provided that starting on October 1, 1998, most veterans had to enroll in the VA health care system as a condition for receiving VA hospital and outpatient care.

The May 15, 2009, final rule established additional subpriorities within enrollment priority category 8 and provided that beginning on the effective date of the rule, VA will enroll priority category 8 veterans whose income exceeds the current means test and geographic means test income thresholds by 10 percent or less. In that document, in § 17.36(2)(c), we inadvertently failed to remove a bracketed reference to the effective date of the regulation and to add the actual effective date of June 15, 2009, in its place. This document corrects that oversight.

List of Subjects in 38 CFR Part 17

Administrative practice and procedure, Alcohol abuse, Alcoholism, Claims, Day care, Dental health, Drug abuse, Foreign relations, Government contracts, Grant programs—health, Grant programs—veterans, Health care, Health facilities, Health professions, Health records, Homeless, Medical and dental schools, Medical devices, Medical research, Mental health programs, Nursing homes, Philippines, Reporting and recordkeeping requirements, Scholarships and fellowships, Travel and transportation expenses, Veterans.

Approved: September 15, 2009.
William F. Russo,
Director of Regulations Management.

For the reason set out in the preamble, VA is correcting 38 CFR part 17 as follows:

PART 17—MEDICAL

1. The authority citation for part 17 continues to read as follows:

Authority: 38 U.S.C. 501, 1721, and as stated in specific sections.

§ 17.36 [Amended]

2. In § 17.36, paragraph (c)(2) is amended by removing “[effective date of regulation]” and adding, in its place, “June 15, 2009”.

[FR Doc. E9-22591 Filed 9-18-09; 8:45 am]

BILLING CODE 8320-01-P